DEPARTMENT OF ENERGY

Federal Energy Regulatory Commission

[Docket No. RM15-11-003]

Notice of Filing: Reliability Standard for Transmission System Planned Performance for Geomagnetic Disturbance Events

Take notice that on April 19, 2018, the North American Electric Reliability Corporation submitted a revised work plan to conduct research on topics related to geomagnetic disturbances and their impacts on the reliability of the Bulk-Power System, pursuant to Order No. 830.¹

¹ Order No. 830, Reliability Standard for Transmission System Planned Performance for Geomagnetic Disturbance Events, 156 FERC 61,215 (2016), reh'g denied, Order No. 830-A, 158 FERC 61,041 (2017) (Order No. 830).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on May 21, 2018.

Dated: April 20, 2018.
Nathaniel J. Davis, Sr.,
Deputy Secretary.

[FR Doc. 2018-08836 Filed 4-26-18; 8:45 am]

BILLING CODE 6717-01-P